FEDERAL COMMUNICATIONS COMMISSION

47 CFR Part 101

[WT Docket No. 07-54; RM-11043; FCC 07-38]

Amendment of the Commission's Rules To Modify Antenna Requirements for the 10.7-11.7 GHz Band

AGENCY: Federal Communications Commission.

ACTION: Proposed rule.

SUMMARY: In this document, we seek comment on modifying the Commission's Rules to permit the installation of smaller antennas by Fixed Service (FS) operators in response to a petition for rulemaking filed by FiberTower, Inc. (FiberTower). In particular, we seek comment on whether these modifications would serve the public interest by facilitating the efficient use of the 11 GHz band while protecting other users in the band from interference due to the use of smaller antennas.

DATES: Comments must be filed on or before May 25, 2007, and reply comments must be filed on or before June 11, 2007.

ADDRESSES: Federal Communications Commission, 445 12th Street, SW., Washington, DC 20554. You may submit comments, identified by WT Docket No. 07-54, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Brian Wondrack at 202-418-2487.

SUPPLEMENTARY INFORMATION: This is a summary of the Commission's Notice of Proposed Rule Making, released March 27, 2007. The complete text of this document, including attachments and related Commission documents, is available for inspection and copying during normal business hours in the FCC Reference Center (Room CY-A257), 445 12th Street, SW., Washington, DC 20554. The complete text of the Notice of Proposed Rulemaking and related Commission documents may be purchased from the Commission's copy contractor, Best Copy and Printing, Inc., 445 12th Street, SW., Room, CY-B402, Washington, DC 20554, telephone 202-488-5300, facsimile 202-488-5563, or you may contact BCPI at its Web site http://www.BCPIWEB.com. When ordering documents from BCPI please provide the appropriate FCC document number, for example, FCC 07-38. The Notice of Proposed Rulemaking is available on the Commission's Web site: http://hraunfoss.fcc.gov/edocs_public/attachmatch/FCC-07-38A1.doc.

Pursuant to sections 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

I. Summary of Notice of Proposed Rulemaking

1. In the Notice of Proposed Rule Making (NPRM), the Commission, in response to a petition filed by FiberTower, Inc., initiates a rulemaking proceeding to establish a full record and determine whether to adopt modifications to part 101 of the Commission's Rules to permit the installation of smaller antennas by Fixed Service (FS) operators in the 10.7-11.7 GHz (11 GHz) band. Specifically, the NPRM seeks comment on whether the proposed rule modifications to the antenna standards and coordination procedures in part 101 serve the public interest by facilitating the efficient use of the 11 GHz band while protecting other users in the band from interference due to the use of smaller antennas.

2. Background. The 11 GHz band is allocated within the United States on a co-primary basis to the Fixed Services (FS), licensed under part 101 of the Commission's Rules, 47 CFR part 101, and to the Fixed Satellite Service (FSS), licensed under part 25 of the Commission's Rules, 47 CFR part 25. Specifically, in the United States, the 11 GHz band is used by the FS for Local Television Transmission Service (LTTS), Private Operational Fixed Point to Point Microwave, and Common Carrier Fixed Point-to-Point Microwave operations. Although the 11 GHz band is allocated internationally for FSS on a primary basis, the use of the FSS downlink band at 11 GHz is limited, within the United States, to international systems, i.e., other than domestic systems, pursuant to 47 CFR 2.106 NG104. The Commission's purpose in adopting such a restriction was to protect incumbent microwave operations and licensees in the 11 GHz band.

3. On July 14, 2004, FiberTower filed a petition for rulemaking proposing amendments to the antenna standards and coordination procedures governing the use microwave antennas in the 11 GHz band in order to maximize the efficient use of the spectrum. The antenna standards, which are set-forth in 47 CFR 101.115(b), are designed to maximize the use of microwave spectrum, including the 11 GHz band, while avoiding interference between operators and other users in the band. FiberTower proposed changes to those parameters that would permit the use of FS antennas with reduced mainbeam gain, increased beamwidth, and modified sidelobe suppression in the 11 GHz band, thereby effectively permitting the use of 0.61 meter antennas as an optional alternative to the 1.22 meter antennas that meet the existing technical parameters for FS in the 11 GHz band. The coordination procedures, which are set-forth in 47 CFR 101.103, exist to establish interference standards applicable to the operation of FS antennas in the 11 GHz band. FiberTower proposed amendments to the coordination procedures to protect other users in the 11 GHz band from experiencing any greater interference from a FS licensee's use of a 0.61 meter antenna than would be experienced if the FS licensee were using a 1.22 meter antenna.

4. Need for the Rule Changes. In the NPRM, the Commission concludes that the public interest would be served by initiating a proceeding to consider the possibility of modifying the Commission's Rules to permit the installation of 0.61 meter antennas in the 11 GHz band. The Commission finds that review the technical specifications for the 11 GHz band is appropriate at this time. The Commission notes that the specifications that limit the size of FS antennas in the 11 GHz band reflect the technical sophistication of the communications equipment and the needs of the various users of the band at the time that the rules were adopted. The Commission further notes that it adopted similar technical specifications that effectively limited the size of antennas used in other bands, including those used by satellite, but has since reconsidered many of those antenna specifications in light of the technological evolution of communications equipment.

5. The Commission tentatively concludes that the shared nature of the 11 GHz band does not preclude the Commission from facilitating the efficient use of the 11 GHz band by permitting FS users to erect 0.61 meter antennas while appropriately protecting other users in the band from harmful interference associated with the use of smaller antennas. The Commission explained in the NPRM that, although the 11 GHz band is shared on a co-primary basis with the FSS, domestic use of the 11 GHz band by the FSS has been limited, to date, because the Commission has sought to protect the use and expansion of terrestrial microwave services within the band. The Commission emphasized that its Rules explicitly limit satellite use of the 11 GHz band to international systems and that the Commission's intent and effect in adopting footnote NG104 was to limit the expansion of FSS in the 11 GHz band and protect the future use of the band for FS. However, the Commission invites comments on its tentative conclusion.

6. Antenna Standards. Antenna standards are designed to maximize the use of microwave spectrum, including the 11 GHz band, while avoiding interference between operators and other users in the band. The Commission recognizes that the proposed use of smaller, lower-gain antennas will result in more radio frequency energy being transmitted in directions away from the actual point-to-point link on account of the relaxed radiation suppression on angles away from the centerline of the main beam as well as because users of 0.61 meter antennas will have to transmit with approximately 4.5 dB more power in order to overcome the reduced main beam gain. The Commission seeks to ensure that any proposed changes to the Commission's Rules appropriately protect other users in the band from interference due to the operation of 0.61 meter antennas. The NPRM seeks comment on whether the use of 0.61 meter antennas by FS licensees in the 11 GHz band will adversely affect other users in the band by increasing the risk of interference. The Commission seeks specific comment on the “White Paper Report on Proposed Changes to Small Antenna Standards in the 11 GHz Band” submitted by Alcatel in support of the FiberTower Petition because it suggests that the impact of deploying 0.61 meter antennas in the 11 GHz band will be minimal. The Commission also requests that parties comment on the extent to which the rules proposed by FiberTower mitigate or obviate interference concerns, or propose additional options to mitigate interference, such as a power or EIRP tradeoff.

7. In addition to seeking comments on interference issues generally, the Commission also seeks comment on specific interference issues. For example, the Commission inquires whether an earth station operator could face a situation in which it experiences harmful interference as a result of the aggregate effect of several nearby FS antennas, even if each antenna standing alone would not create a problem. The Commission asks parties to comment on whether the use of 0.61 meter antennas by FS licensees in the 11 GHz band will adversely affect other users in the band by increasing the risk of aggregate interference, especially to earth stations. The Commission invites parties to suggest ways to avoid or mitigate instances of aggregate interference, if they were to occur. The NPRM specifically suggests that parties discuss the sufficiency of existing industry practices, coordination requirements, and interference criteria to address the possibility or occurrence of aggregate interference.

8. The Commission also seeks comment on whether the size of the equipment and the technical characteristics of the antenna patterns make the 0.61 meter antenna more difficult to point accurately. The Commission specifically asks parties to address whether the use of smaller antennas in the 11 GHz band significantly increases the risk of interference to other users in the band due to accuracy errors in pointing the 0.61 meter antennas. The Commission therefore invites parties to discuss the likelihood, effect, and addressability of pointing errors and to comment on how the Commission has approached similar issues concerning interference due to pointing errors in the past.

9. Coordination Procedures. Coordination procedures, set-forth in 47 CFR 101.103, exist to establish interference standards applicable to the operation of FS antennas in the 11 GHz band. The FiberTower Petition proposes amendments to the coordination requirements in 47 CFR 101.103 to protect other users in the 11 GHz band from experiencing any greater interference from the use of a 0.61 meter antenna than would be experienced by the use of a 1.22 meter antenna. Specifically, pursuant to the proposed amendments, if either an FS applicant that is attempting to frequency coordinate a 1.22 meter (or larger) antenna for use in the 11 GHz band or an FSS applicant for an earth station in the 11 GHz band predicts received interference from an FS licensee or prior applicant using a 0.61 meter antenna in the 11 GHz band, it may require the FS licensee or prior applicant using the 0.61 meter antenna to reduce predicted interference to levels no higher than would be predicted from the use of a 1.22 meter antenna. In addition, the proposed amendments only permit the FS licensee or prior applicant using a 0.61 meter antenna in the 11 GHz band to object to a prior coordination notice if it would have actual grounds to object to predicted interference if it were using a 1.22 meter antenna at the same site, polarization, frequency, bandwidth, and orientation.

10. The Commission seeks comment on whether these amendments strike the appropriate balance between efficient spectrum use and interference protection in the 11 GHz band and requests that parties address precedent where the Commission has amended technical rules to permit the use of smaller antennas. The Commission invites parties to comment on whether the Commission's rules and industry practices are sufficient to allow parties to resolve instances where 0.61 meter antennas cause more interference than otherwise would be caused by 1.22 meter antennas.

11. Accordingly, the Commission seeks comment on whether the proposed amendments to the part 101 antenna standards and coordination requirements would facilitate the efficient use of the 11 GHz band by affording FS licensees the flexibility to install 0.61 meter antennas in the 11 GHz band while appropriately protecting other users in the band from interference. The Commission also seeks comment on whether these changes will facilitate a range of fixed microwave applications—including those that support third generation mobile services—that are not currently being accommodated in the 11 GHz band under the existing rules governing use of the band.

II. Initial Regulatory Flexibility Analysis

12. As required by the Regulatory Flexibility Act of 1980, as amended (RFA), the Commission has prepared this present Initial Regulatory Flexibility Analysis (IRFA) of the possible significant economic impact on a substantial number of small entities by the policies and rules proposed in this Notice of Proposed Rulemaking (NPRM). Written public comments are requested on this IRFA. Comments must be identified as responses to the IRFA and must be filed by the deadlines for comments on the NPRM provided in paragraph 29 of the NPRM. The Commission will send a copy of the NPRM, including this IRFA, to the Chief Counsel for Advocacy of the Small Business Administration (SBA). In addition, the NPRM and IRFA (or summaries thereof) will be published in the Federal Register.

A. Need for, and Objectives of, the Proposed Rules

13. In this NPRM, we seek comment on a petition for rulemaking filed by FiberTower, Inc. (FiberTower) on July 14, 2004. The FiberTower Petition requests that the Commission initiate a rulemaking to amend the technical parameters in §§ 101.103 and 101.115 of the Commission's rules that establish interference protection for operators in the 10.7-11.7 GHz (11 GHz) band in order to permit the use of 0.61 meter (“two-foot”) antennas as an optional alternative to the 1.22 meter (“four-foot”) antennas that meet the existing technical parameters for Fixed Microwave Service in the 11 GHz band. Specifically, the FiberTower Petition proposes changes to the technical parameters in § 101.115 of the Commission's rules to permit the use of Fixed Service (FS) antennas with reduced mainbeam gain, increased beamwidth, and modified sidelobe suppression in the 11 GHz band. The FiberTower Petition also proposes amendments to § 101.103 of the Commission's rules to protect other users in the 11 GHz band from experiencing any greater interference from the use of a 0.61 meter antenna than would be experienced by the use of a 1.22 meter antenna.

14. We seek comment in this NPRM on modifying the Commission's rules to permit the installation of 0.61 meter antennas in the 11 GHz band, while appropriately protecting other users in the band. Such action could serve the public interest by facilitating the efficient use of the 11 GHz band. We tentatively conclude that the shared nature of the 11 GHz band does not preclude the Commission from facilitating the efficient use of the 11 GHz band by permitting FS users to erect 0.61 meter antennas. However, we also wish to ensure that any proposed changes to the Commission's rules appropriately protect other users in the band from increased interference due to the use of 0.61 meter antennas. To this end, we seek comments on particular interference concerns as well as on the more general issue of whether the use of 0.61 meter antennas by FS licensees in the 11 GHz band will adversely affect other users in the band by increasing the likelihood of interference.

B. Legal Basis

15. The proposed action is authorized pursuant to sections 1, 2, 4(i), 7, 10, 201, 214, 301, 302, 303, 307, 308, 309, 310, 319, 324, 332 and 333 of the Communications Act of 1934, as amended, 47 U.S.C. 151, 152, 154(i), 157, 160, 201, 214, 301, 302, 303, 307, 308, 309, 310, 319, 324, 332, and 333.

C. Description and Estimate of the Number of Small Entities to Which the Proposed Rules Will Apply

16. The RFA directs agencies to provide a description of, and where feasible, an estimate of the number of small entities that may be affected by the proposed rules and policies, if adopted. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the SBA.

17. Nationwide, there are a total of approximately 22.4 million small businesses, according to SBA data. A “small organization” is generally “any not-for-profit enterprise which is independently owned and operated and is not dominant in its field.” Nationwide, as of 2002, there were approximately 1.6 million small organizations. The term “small governmental jurisdiction” is defined generally as “governments of cities, towns, townships, villages, school districts, or special districts, with a population of less than fifty thousand.” Census Bureau data for 2002 indicate that there were 87,525 local governmental jurisdictions in the United States. We estimate that, of this total, 84,377 entities were “small governmental jurisdictions.” Thus, we estimate that most governmental jurisdictions are small.

18. Fixed Microwave Services. Microwave services include common carrier, private-operational fixed, and broadcast auxiliary radio services. At present, there are approximately 36,708 common carrier fixed licensees and 59,291 private operational-fixed licensees and broadcast auxiliary radio licensees in the microwave services. The Commission has not yet defined a small business with respect to microwave services. For purposes of the FRFA, we will use the SBA's definition applicable to Cellular and other Wireless Telecommunications companies—i.e., an entity with no more than 1,500 persons. Census Bureau data for 2002 show that there were 1,397 firms in this category that operated for the entire year. Of this total, 1,378 firms had employment of 999 or fewer employees, and 19 firms had employment of 1,000 employees or more. Thus, under this size standard, the majority of firms can be considered small. We note that the number of firms does not necessarily track the number of licensees. We estimate that all of the Fixed Microwave licensees (excluding broadcast auxiliary licensees) would qualify as small entities under the SBA definition.

19. Satellite Telecommunications and Other Telecommunications. There is no small business size standard developed specifically for providers of international service. The appropriate size standards under SBA rules are for the two broad census categories of “Satellite Telecommunications” and “Other Telecommunications.” Under both categories, such a business is small if it has $13.5 million or less in average annual receipts.

20. The first category of Satellite Telecommunications “comprises establishments primarily engaged in providing point-to-point telecommunications services to other establishments in the telecommunications and broadcasting industries by forwarding and receiving communications signals via a system of satellites or reselling satellite telecommunications.” For this category, Census Bureau data for 2002 show that there were a total of 371 firms that operated for the entire year. Of this total, 307 firms had annual receipts of under $10 million, and 26 firms had receipts of $10 million to $24,999,999. Consequently, we estimate that the majority of Satellite Telecommunications firms are small entities that might be affected by our action.

21. The second category of Other Telecommunications “comprises establishments primarily engaged in (1) Providing specialized telecommunications applications, such as satellite tracking, communications telemetry, and radar station operations; or (2) providing satellite terminal stations and associated facilities operationally connected with one or more terrestrial communications systems and capable of transmitting telecommunications to or receiving telecommunications from satellite systems.” For this category, Census Bureau data for 2002 show that there were a total of 332 firms that operated for the entire year. Of this total, 259 firms had annual receipts of under $10 million and 15 firms had annual receipts of $10 million to $24,999,999. Consequently, we estimate that the majority of Other Telecommunications firms are small entities that might be affected by our action.

22. Space Stations (Geostationary). Commission records reveal that there are 15 space station licensees. We do not request nor collect annual revenue information, and thus are unable to estimate of the number of geostationary space stations that would constitute a small business under the SBA definition cited above, or apply any rules providing special consideration for Space Station (Geostationary) licensees that are small businesses.

23. Fixed Satellite Transmit/Receive Earth Stations. Currently there are approximately 3,390 operational fixed-satellite transmit/receive earth stations authorized for use in the C- and Ku-bands. The Commission does not request or collect annual revenue information, and thus is unable to estimate the number of earth stations that would constitute a small business under the SBA definition.

D. Description of Projected Reporting, Recordkeeping, and Other Compliance Requirements

24. This NPRM proposes no new reporting or recordkeeping requirements. This NPRM proposes amendments to the Commission's rules to afford licensees in the Fixed Microwave Services (FS) with the flexibility to use a 0.61 meter antenna in the 11 GHz band as an optional alternative to the 1.22 meter antenna that meets the existing technical parameters for FS in the 11 GHz band. The proposed amendments would apply equally to large and small entities and benefit all FS licensees by reducing the burden of seeking individual waivers to permit the use of 0.61 meter antennas in the 11 GHz band. The Commission requests comment on how these proposed rules may be modified to reduce the burden on small entities and still meet the objectives of the proceeding.

E. Steps Taken To Minimize Significant Economic Impact on Small Entities, and Significant Alternatives Considered

25. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance rather than design standards; and (4) an exemption from coverage of the rule, or any part thereof for small entities.

26. As noted above, this NPRM proposes rules to permit the use of 0.61 meter antennas as an optional alternative to the 1.22 meter antennas that meet the existing technical parameters for FS in the 11 GHz band. Because the proposed rules seek to provide FS licensees in the 11 GHz with additional flexibility, FS licensees retain the option of continuing to employ 1.22 meter antennas that meet the existing technical parameters for FS in the 11 GHz band. Thus, this proposed action would provide an additional option to all licensees, including small entity licensees. In this NPRM, we seek comment on this proposed action. Such action could serve the public interest by facilitating the efficient use of the 11 GHz band. The proposed rules could promote the efficient use of the spectrum and provide for a wide range of fixed microwave applications that are not currently being provided for in the 11 GHz band for financial, aesthetic, and regulatory reasons. The proposed rules could therefore open up economic opportunities to a variety of spectrum users, including small businesses. Indeed, a number of the commenting parties to support the proposed rules identify themselves as small businesses.

27. This NPRM seeks comments on particular interference concerns as well as on the more general issue of whether the use of 0.61 meter antennas by FS licensees in the 11 GHz band will adversely affect other users in the band by increasing the likelihood of interference. The Commission invites comment on any additional significant alternatives parties believe should be considered and on how the approach outlined in the NPRM will impact small entities. The Commission will continue to examine alternatives in the future with the objectives of eliminating unnecessary regulations and minimizing any significant economic impact on small entities.

F. Federal Rules That May Duplicate, Overlap, or Conflict With the Proposed Rule

28. None.

III. Ordering Clauses

29. Pursuant to sections 1, 2, 4(i), 7, 10, 201, 214, 301, 302, 303, 307, 308, 309, 310, 319, 324, 332 and 333 of the Communications Act of 1934, 47 U.S.C. 151, 152, 154(i), 157, 160, 201, 214, 301, 302, 303, 307, 308, 309, 310, 319, 324, 332, 333, that this Notice of Proposed Rulemaking is hereby ADOPTED.

30. Notice is hereby given of the proposed regulatory changes described in this Notice, and that comment is sought on these proposals.

31. The Commission's Consumer and Governmental Affairs Bureau, Reference Information Center, shall send shall send a copy of this NPRM, including the Initial Regulatory Flexibility Analysis, to the Chief Counsel for Advocacy of the Small Business Administration.

List of Subjects in 47 CFR Part 101

Communications equipment, Radio, Reporting and recordkeeping requirements.

Federal Communications Commission.
Marlene H. Dortch,
Secretary.

Proposed Rules

For the reasons discussed in the preamble, the Federal Communications Commission proposes to amend 47 CFR part 101 as follows:

PART 101—FIXED MICROWAVE SERVICES

1. The authority citation for part 101 continues as follows:

Authority: 47 U.S.C. 154, 303.

2. Section 101.103 is amended by adding a new paragraph (j) to read as follows:

§ 101.103 Frequency coordination procedures.

* * * * *

(j) Coordination of small antennas in the 10.7-11.7 GHz band.

(1) A licensee or prior applicant using an antenna smaller than 1.22 meters (4 feet) in diameter may object to a prior coordination notice only

(i) If it has actual grounds to object because of predicted interference, and

(ii) To the extent it would have grounds to object if it were using a 1.22 meter antenna at the same site, polarization, frequency, bandwidth, and orientation.

(2) A Fixed Service applicant attempting to frequency coordinate an antenna of 1.22 meters in diameter or larger, or an applicant for a Fixed Satellite Service earth station, that predicts received interference from a licensee or prior applicant using an antenna smaller than 1.22 meters in diameter, can require the licensee or prior applicant to reduce the predicted interference to levels no higher than would be predicted from antenna of 1.22 meters in diameter.

3. Section 101.115 is amended by revising the entry “10,700 to 11,700 ⁵” to the table following paragraph (b)(2) to read as follows:

§ 101.115 Directional antennas.

(b) * * *

(2) * * *

Frequency (MHz) | Category | Maximum beam-width to 3 dB pts | Minimum antenna Gain (dBi) | Minimum radiation suppression to angle in degrees from centerline of main beam in decibels: 5° to 10° | Minimum radiation suppression to angle in degrees from centerline of main beam in decibels: 10° to 15° | Minimum radiation suppression to angle in degrees from centerline of main beam in decibels: 15° to 20° | Minimum radiation suppression to angle in degrees from centerline of main beam in decibels: 20° to 30° | Minimum radiation suppression to angle in degrees from centerline of main beam in decibels: 30° to 100° | Minimum radiation suppression to angle in degrees from centerline of main beam in decibels: 100° to 140° | Minimum radiation suppression to angle in degrees from centerline of main beam in decibels: 140° to 180°
* * * * * * *
10,700-11,700* | A | 3.5 | 33.5 | 18 | 24 | 28 | 32 | 35 | 55 | 55
| B | 3.5 | 33.5 | 17 | 24 | 28 | 32 | 35 | 40 | 45
* * * * * * *

* * * * *

[FR Doc. E7-7796 Filed 4-24-07; 8:45 am]

BILLING CODE 6712-01-P